ENVIRONMENTAL PROTECTION AGENCY

40 CFR Part 52

[EPA-R07-OAR-2012-0466; FRL-9726-1]

Approval and Promulgation of Implementation Plans; State of Missouri; Maximum Allowable Emission of Particulate Matter From Fuel Burning Equipment Used for Indirect Heating

AGENCY: Environmental Protection Agency (EPA).

ACTION: Proposed rule.

SUMMARY: EPA proposes to approve the State Implementation Plan (SIP) revision submitted by the State of Missouri to incorporate a new rule, Maximum Allowable Emissions of Particulate Matter (PM) Emissions from Fuel Burning Equipment Used for Indirect Heating. The new rule consolidates four pre-existing rules into one state-wide rule for clarity. The applicable standard addressed in this action is the PM2.5 and PM10 NAAQS promulgated by EPA in 2006. EPA is proposing this revision because the standards and requirements set by the rules will strengthen the Missouri SIP. EPA's approval of this SIP revision is being done in accordance with the requirements of the Clean Air Act (CAA).

DATES: Comments on this proposed action must be received in writing by October 15, 2012.

ADDRESSES: Submit your comments, identified by Docket ID No. EPA-R07-OAR-2012-0466, by mail to Stephanie Doolan, Environmental Protection Agency, Air Planning and Development Branch, 901 North 5th Street, Kansas City, Kansas 66101. Comments may also be submitted electronically or through hand delivery/courier by following the detailed instructions in the ADDRESSES section of the direct final rule located in the rules section of this Federal Register..

FOR FURTHER INFORMATION CONTACT: Stephanie Doolan at (913) 551-7719, or by email at doolan.stephanie@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: August 29, 2012.
Mark J. Hague,
Acting Regional Administrator, Region 7.

[FR Doc. 2012-22470 Filed 9-12-12; 8:45 am]

BILLING CODE 6560-50-P